SECURITIES AND EXCHANGE COMMISSION

Sunshine Act Meeting

Notice is hereby given, pursuant to the provisions of the Government in the Sunshine Act, Public Law 94-409, that the Securities and Exchange Commission's Office of the Investor Advocate will host a public conference, characterized as an “Evidence Summit,” on Friday, March 10, 2017, in the Auditorium, Room L-002 at the Commission's headquarters, 100 F Street NE., Washington, DC 20549. The conference will begin at 9:30 a.m. (ET). Seating will be on a first-come, first-served basis. Doors will open at 9:00 a.m. Visitors will be subject to security checks. The conference will be webcast on the Commission's Web site at www.sec.gov.

On February 24, 2017, the Commission issued notice of the conference (Release No. 33-10312), indicating that the conference is open to the public. This Sunshine Act notice is being issued because a quorum of the Commission may attend.

The agenda for the conference includes: Opening remarks by Acting Chairman Michael S. Piwowar; plenary remarks by panelists Brigitte Madrian and Terry Odean; a panel discussion exploring how investors think and act; a keynote address by panelist George Loewenstein; a panel discussion addressing ways in which the Commission's disclosure regime can facilitate disclosure in the most effective manner for a wide variety of users; remarks from Commissioner Kara M. Stein; a panel discussion regarding ways in which to improve the disclosure of fees, strategies/risks, and performance; and a nonpublic networking session for panelists during lunch.

For further information, please contact Brent J. Fields from the Office of the Secretary at (202) 551-5400.

Dated: March 2, 2017.
Brent J. Fields,
Secretary.

[FR Doc. 2017-04496 Filed 3-3-17; 11:15 am]

BILLING CODE 8011-01-P